DEPARTMENT OF THE INTERIOR

National Park Service

Notice of Availability of the Draft General Management Plan/Draft Environmental Impact Statement for the Little Rock Central High School National Historic Site, Arkansas

AGENCY: National Park Service.

Pursuant to section 102(2) of the National Environmental Policy Act of 1969, the National Park Service announces the availability of the draft general management plan/draft environmental impact statement (DGMP/DEIS) for the Little Rock Central High School National Historic Site (hereafter “the Historic Site”). This notice also announces public open houses for the purpose of receiving public comments on the DGMP/DEIS.

DATES: There will be a 60 day public review period for comments on this document. Comments on the DGMP/DEIS must be received by December 26, 2001, or 60 days after the Environmental Protection Agency publishes its notice of availability in the Federal Register, whichever date is later. Public open houses for information about, or to make comment on the DGMP/DEIS will be held on November 13, 2001, in Little Rock, Arkansas. Information about time and place will be available by contacting the park's visitor center at 501-374-1957.

ADDRESSES: Copies of the DCMP/DEIS are available by request by writing to Little Rock Central High School National Historic Site, 2125 Daisy L. Gatson Bates Drive, Little Rock, AR 72202, by phone 501-374-1957, or by e-mail CHSC_Visitor_Center@nps.gov. The document can be picked-up in person at the Historic Site's visitor center, 2125 Daisy L. Gatson Bates Drive, Little Rock, AR.

FOR FURTHER INFORMATION CONTACT: Superintendent, Little Rock Central High School National Historic Site, Federal Building, Box 3527, 700 West Capitol Ave., Little Rock, AR 72201 or at telephone number 501-324-5683.

SUPPLEMENTARY INFORMATION: As established, the Historic Site consists of lands and interests therein comprising the Central High School campus and adjacent properties in Little Rock, Arkansas. Congress established the Historic Site to preserve, protect, and interpret for the benefit, education, and inspiration of present and future generations, Central High School and its role in the integration of public schools and the development of the Civil Rights movement in the United States.

The purpose of the general management plan is to set forth the basic management philosophy for the Historic Site and to provide the strategies for addressing issues and achieving identified management objectives. The DGMP/DEIS describes and analyzes the environmental impacts of a proposed action and three action alternatives for the future management direction of the Historic Site. A no action alternative is also evaluated.

Persons wishing to comment may do so by any one of several methods. They may attend the open houses noted above. They may mail comments to Superintendent, Little Rock Central High School National Historic Site, Federal Building, Box 3527, 700 West Capitol Ave., Little Rock, AR 72201. They also may comment via e-mail to dave_forney@nps.gov (include name and return address in the e-mail message). Finally, they may hand-deliver comments to the Little Rock Central High School National Historic Site visitor center at 2125 Daisy L. Gatson Bates Drive, Little Rock, AR 72201. The NPS' practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

The responsible official is Mr. William Schenk, Midwest Regional Director, National Park Service.

Dated: August 7, 2001.
David N. Given,
Acting Regional Director, Midwest Region.

[FR Doc. 01-27760 Filed 11-5-01; 8:45 am]

BILLING CODE 4310-70-P